FEDERAL MARITIME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011924.

Title: CSAL/CMA CGM Cross Slot Charter Agreement.

Parties: China Shipping Container Lines Co., Ltd.; China Shipping Container Lines (Hong Kong) Co., Ltd., and CMA CGM, S.A.

Filing Party: Paul M. Keane, Esq.; Cichanowicz, Callan, Keane, Vengrow & Textor LLP; 61 Broadway, Suite 3000; New York, NY 10006-2802.

Synopsis: The agreement allows the parties to charter space to each other on separate strings in the trades between U.S. Gulf and West Coast ports and ports in the Far East.

By order of the Federal Maritime Commission.
Dated: November 10, 2005.
Bryant L. VanBrakle,
Secretary.

[FR Doc. 05-22748 Filed 11-15-05; 8:45 am]

BILLING CODE 6730-01-P